ENVIRONMENTAL PROTECTION AGENCY

[EPA-HQ-OPPT-2017-0318; FRL-10370-01-OMS]

Information Collection Request Submitted to OMB for Review and Approval; Comment Request; Request for Contractor Access to Toxic Substances Control Act Confidential Business Information (CBI) (Renewal)

AGENCY: Environmental Protection Agency (EPA).

ACTION: Notice.

SUMMARY: The Environmental Protection Agency (EPA) has submitted an information collection request (ICR),Request for Contractor Access to Toxic Substances Control Act Confidential Business Information (CBI) (EPA ICR Number 1250.12; OMB Control Number 2070-0075) to the Office of Management and Budget (OMB) for review and approval in accordance with the Paperwork Reduction Act. This is a proposed extension of the ICR which is currently approved through October 31, 2022. Public comments were previously requested via the Federal Register on January 24, 2022 during a 60-day comment period. This notice allows for an additional 30 days for public comments. A fuller description of the ICR is given below, including its estimated burden and cost to the public. An agency may not conduct or sponsor and a person is not required to respond to a collection of information unless it displays a currently valid OMB control number.

DATES: Additional comments may be submitted on or before November 28, 2022.

ADDRESSES: Submit your comments to EPA, referencing Docket ID No. EPA-HQ-OPPT-2017-0318, online using www.regulations.gov (our preferred method), by email to https://www.epa.gov/dockets, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Regulatory Support Branch (7101M), Office of Chemical Safety and Pollution Prevention, Environmental Protection Agency, 1200 Pennsylvania Ave. NW, Washington, DC 20460; telephone number: (202) 566-1204; email address: sleasman.katherine@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's dockets, visit https://www.epa.gov/dockets.

Abstract: EPA procures contract support to facilitate the performance of certain duties. EPA may require contractors to handle TSCA CBI. Each contractor employee who will use TSCA CBI in the performance of his or her duties must be authorized for access to TSCA CBI through a multi-step process. The TSCA CBI Protection Manual provides Federal and contractor employees with guidelines and operating procedures for handling TSCA CBI while performing their official duties, as well as the procedures to obtain authorization for access to TSCA CBI.

Specifically, for purposes of this information collection, contractor personnel must submit to EPA the EPA form titled “TSCA CBI Access Request, Agreement, and Approval” (EPA Form 7740-6). The Agency uses EPA Form 7740-6 to collect information about contractor personnel so that the Agency can evaluate their suitability for access to TSCA CBI.

Form Numbers: 7740-6.

Respondents/affected entities: Potentially affected entities may include but are not limited to the following: NAICS codes 514 (Information Services) and 561 (Administrative and Support Services).

Respondent's obligation to respond: Mandatory, 15 U.S.C. 2613.

Estimated number of respondents: 241 (total).

Frequency of response: On occasion.

Total estimated burden: 341 hours (per year). Burden is defined at 5 CFR 1320.3(b).

Total estimated cost: $19,740 (per year), includes $0 annualized capital or operation & maintenance costs.

Changes in the estimates: The estimated annual burden to contractors is unchanged at 341 hours compared with that identified in the ICR currently approved by OMB. Also, the costs to the industry respondents increased by $435, reflecting increases in labor and overhead costs over time.

Courtney Kerwin,
Director, Regulatory Support Division.

[FR Doc. 2022-23374 Filed 10-26-22; 8:45 am]

BILLING CODE 6560-50-P